Proclamation 7501 of November 13, 2001

National Farm-City Week, 2001

By the President of the United States of America

A Proclamation

As fall harvesting occurs and Americans gather with family and friends during Thanksgiving to share holiday meals, we celebrate our Nation's farmers and ranchers who provide us with abundant agricultural products, and we recognize all of those who help get those food products from the farm to our tables.

The American agricultural industry is the leading global provider of food. Its remarkable rates of production are a continuing tribute to the ingenuity, diligence, and creativity of our country's farmers and ranchers. But agriculture is not just one industry among many—it is the very heart of our economy. The aggregate output of our food industry is unparalleled in human history. This enormous production makes farmers and ranchers key contributors to the collective wealth of our country. Their extraordinary efforts produce foodstuffs not just for our land but for the world, and they are driven by the American virtues of independence, industry, innovation, and sacrifice.

Our Nation's farmers and ranchers depend upon a complex chain of interrelationships with urban workers to get their products to national and world markets. Shippers, processors, marketers, tradespeople, grocers, truck drivers, food service providers, inspectors, researchers, and scientists are all part of the formula that feeds our land and the world. These urban/agriculture partnerships serve as catalysts for our overall commercial success; and their continued development is essential to sustaining our prosperity.

As we reflect upon the important role these partnerships play in the strength and success of our great Nation, we remember those who devote their lives to meeting an essential national and worldwide need. We are blessed by our agricultural abundance, by the committed and caring farmers and ranchers who strive to provide all we need to feed our people and the people of the world, and by all of those who help accomplish this important undertaking.

NOW, THEREFORE, I, GEORGE W. BUSH, President of the United States of America, by virtue of the authority vested in me by the Constitution and laws of the United States, do hereby proclaim November 16 through November 22, 2001, as National Farm-City Week. I call upon all Americans, in rural and urban communities alike, to join in recognizing the accomplishments of our farms and ranches, and the hard-working individuals who produce an abundance of affordable, quality agricultural goods that strengthen and enrich our country.

IN WITNESS WHEREOF, I have hereunto set my hand this thirteenth day of November, in the year of our Lord two thousand one, and of the Independence of the United States of America the two hundred and twenty-sixth.

B

[FR Doc. 01-28806

Filed 11-14-01; 9:35 am]

Billing code 3195-01-P